DEPARTMENT OF ENERGY

Biological and Environmental Research Advisory Committee

AGENCY: Office of Science, Department of Energy.

ACTION: Notice of open meeting.

SUMMARY: This notice announces a meeting of the Biological and Environmental Research Advisory Committee (BERAC). The Federal Advisory Committee Act requires that public notice of these meetings be announced in the Federal Register.

DATES: Thursday, November 2, 2017; 8:30 a.m.-5:30 p.m. and Friday, November 3, 2017; 8:30 a.m.-12:30 p.m.

ADDRESSES: Gaithersburg Marriott Washingtonian Center, 9751 Washingtonian Blvd., Gaithersburg, Maryland 20878.

FOR FURTHER INFORMATION CONTACT: Dr. Tristram West, Designated Federal Officer, BERAC, U.S. Department of Energy, Office of Science, Office of Biological and Environmental Research, SC-23/Germantown Building, 1000 Independence Avenue SW., Washington, DC 20585-1290. Phone 301-903-5155; fax (301) 903-5051 or email: tristram.west@science.doe.gov. The most current information concerning this meeting can be found on the Web site: http://science.energy.gov/ber/berac/meetings/.

SUPPLEMENTARY INFORMATION: Purpose of the Committee: To provide advice on a continuing basis to the Director, Office of Science of the Department of Energy, on the many complex scientific and technical issues that arise in the development and implementation of the Biological and Environmental Research Program.

Tentative Agenda Topics

• News from the Office of Science

• News from the Office of Biological and Environmental Research (BER)

• News from the Biological Systems Science and Climate and Environmental Sciences Divisions

• Report on the Biological Systems Science Division Committee of Visitors

• Report on the Grand Challenges Report

• Facility Update

• Introductions to new Bioenergy Research Centers

• Scientific Workshop Outbriefs

• Science Talks

• New Business

• Public Comment

Public Participation: The day and a half meeting is open to the public. If you would like to file a written statement with the Committee, you may do so either before or after the meeting. If you would like to make oral statements regarding any of the items on the agenda, you should contact Tristram West at tristram.west@science.doe.gov (email) or 301-903-5051 (fax). You must make your request for an oral statement at least five business days before the meeting. Reasonable provision will be made to include the scheduled oral statements on the agenda. The Chairperson of the Committee will conduct the meeting to facilitate the orderly conduct of business. Public comment will be limited to five minutes each.

Minutes: The minutes of this meeting will be available for public review and copying within 45 days at the BERAC Web site: http://science.energy.gov/ber/berac/meetings/berac-minutes/.

Issued in Washington, DC on October 5, 2017.
LaTanya R. Butler,
Deputy Committee Management Officer.

[FR Doc. 2017-22104 Filed 10-11-17; 8:45 am]

BILLING CODE 6450-01-P